DEPARTMENT OF COMMERCE

National Oceanic and Atmospheric Administration

RIN 0648-XG247

North Pacific Fishery Management Council; Public Meeting

AGENCY: National Marine Fisheries Service (NMFS), National Oceanic and Atmospheric Administration (NOAA), Commerce.

ACTION: Notice of a public meeting.

SUMMARY: A subgroup of the North Pacific Fishery Management Council (Council) Bering Sea Fishery Ecosystem Plan team (BS FEP) will meet June 14, 2018.

DATES: The meeting will be held on Thursday, June 14, 2018, from 9:30 a.m. to 4:30 p.m. Pacific standard time.

ADDRESSES: The meeting will be held in 2039, MML room, at the Alaska Fisheries Science Center, 7700 Sand Point Way NE, Seattle, WA 98115. Teleconference number: 1-877-953-3919.

Council address: North Pacific Fishery Management Council, 605 W. 4th Ave, Suite 306, Anchorage, AK 99501-2252; telephone: (907) 271-2809.

FOR FURTHER INFORMATION CONTACT: Diana Evans, Council staff; telephone: (907)-271-2809.

SUPPLEMENTARY INFORMATION:

Agenda

Thursday June 14, 2018

The purpose of the meeting is to review, revise, and develop the goals and objectives of the draft Bering Sea Fishery Ecosystem Plan, and discuss metrics for measuring whether objectives are being accomplished. Revised goals and objectives will be included in the next draft of the BS FEP, which is scheduled to be reviewed by the Council's Ecosystem Committee in July.

Public Comment

Public comment letters will be accepted and should be submitted either electronically to Diana Evans, Council staff: diana.evans@noaa.gov or through the mail: North Pacific Fishery Management Council, 605 W. 4th Ave., Suite 306, Anchorage, AK 99501-2252. In-person oral public testimony will be accepted at the discretion of the chair.

Special Accommodations

These meetings are physically accessible to people with disabilities. Requests for sign language interpretation or other auxiliary aids should be directed to Shannon Gleason at (907) 271-2809 at least 7 working days prior to the meeting date.

Dated: May 18, 2018.
Rey Israel Marquez,
Acting Deputy Director, Office of Sustainable Fisheries, National Marine Fisheries Service.

[FR Doc. 2018-11024 Filed 5-22-18; 8:45 am]

BILLING CODE 3510-22-P